DEPARTMENT OF THE INTERIOR

National Park Service

[NPS-WASO-NAGPRA-NPS0039150; PPWOCRADN0-PCU00RP14.R50000]

Notice of Intended Disposition: U.S. Department of the Interior, National Park Service, Agate Fossil Beds National Monument, Harrison, NE

AGENCY: National Park Service, Interior.

ACTION: Notice.

SUMMARY: In accordance with the Native American Graves Protection and Repatriation Act (NAGPRA), the U.S. Department of the Interior, National Park Service, Agate Fossil Beds National Monument (AGFO) intends to carry out the disposition of human remains removed from Federal or Tribal lands to the lineal descendants, Indian Tribe, or Native Hawaiian organization with priority for disposition in this notice.

DATES: Disposition of the human remains in this notice may occur on or after December 5, 2025. If no claim for disposition is received by December 5, 2025, the human remains in this notice will become unclaimed human remains.

ADDRESSES: Jay Sturdevant, Superintendent, Agate Fossil Beds National Monument, 301 River Road, Harrison, NE 69346-2743, telephone (308) 665-4110, email jay_sturdevant@nps.gov.

SUPPLEMENTARY INFORMATION: This notice is published as part of the National Park Service's administrative responsibilities under NAGPRA. The determinations in this notice are the sole responsibility of the Superintendent, AGFO, and additional information on the human remains in this notice, including the results of consultation, can be found in the related records.

Abstract of Information Available

Based on the information available, human remains representing, at least, one individual has been reasonably identified. No associated funerary objects are present. On August 6, 2020, a human skull was found in the Niobrara River on Federal land within the boundary of AGFO in Sioux County, NE. Law enforcement officers from the National Park Service (NPS), Sioux County Sheriff's Office, and the Nebraska State Patrol responded to the discovery. The NPS law enforcement officer took possession of the remains and placed them in a secure vault. The remains were visually examined and through facial micromorphology determined to be Native American. The skull had glue, tape, and faint blue lettering (undecipherable) on it. Nothing else is known about the remains or from where they originated. The remains are not part of any known NPS museum holdings.

Determinations

AGFO has determined that:

• The human remains described in this notice represent the physical remains of one individual of Native American ancestry.

• The Ponca Tribe of Indians of Oklahoma and the Ponca Tribe of Nebraska have priority for disposition of the human remains described in this notice.

Claims for Disposition

Written claims for disposition of the human remains in this notice must be sent to the appropriate official identified in this notice under ADDRESSES. If no claim for disposition is received by December 5, 2025, the human remains in this notice will become unclaimed human remains. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains in this notice may occur on or after January 6, 2025. If competing claims for disposition are received, AGFO must determine the most appropriate claimant prior to disposition. Requests for joint disposition of the human remains are considered a single request and not competing requests. AGFO is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: November 22, 2024.
Melanie O'Brien,
Manager, National NAGPRA Program.

[FR Doc. 2024-28487 Filed 12-4-24; 8:45 am]

BILLING CODE 4312-52-P